DEPARTMENT OF COMMERCE

National Oceanic and Atmospheric Administration

[RTID 0648-XD626]

Fisheries of the Exclusive Economic Zone off Alaska; Application for an Exempted Fishing Permit

AGENCY: National Marine Fisheries Service (NMFS), National Oceanic and Atmospheric Administration (NOAA), Commerce.

ACTION: Notice; receipt of application for exempted fishing permit.

SUMMARY: This notice announces NMFS' receipt of an application and the public comment period for an exempted fishing permit (EFP) from Real Time Data North America, LLC (RTDNA), a private company specializing in software/application development. If issued, this permit would allow the applicant to test methods for its software application to interface with and meet the electronic logbook (ELB) requirements without also meeting the duplicate hard copies recordkeeping and reporting requirement. The objectives of this EFP, if issued, would be to exempt fishery participants from the requirement to print paper logbooks when using a RTDNA ELB, and to test and scale a fully electronic reporting system in partnership with the NMFS Alaska Regional Office. Field testing would be conducted between March 1, 2024 and January 1, 2026. This experiment would have the potential to streamline recordkeeping and reporting requirements and thus promote the objectives of the Magnuson-Stevens Fishery Conservation and Management Act (Magnuson-Stevens Act).

DATES: Comments on this EFP application must be submitted to NMFS on or before February 12, 2024. The North Pacific Fishery Management Council (Council) will consider the application at its meeting from February 5, 2024 through February 12, 2024.

ADDRESSES: The Council meeting will be held virtually and in person in Seattle, WA. The agenda for the Council meeting is available at https://www.npfmc.org. In addition to submitting public comments during the Council meeting through the Council website, you may submit your comments, identified by NOAA-NMFS-2023-0158, by either of the following methods:

• Electronic Submission: Submit all electronic public comments via the Federal e-Rulemaking Portal. Go to https://www.regulations.gov and enter [NOAA-NMFS-2023-0158] in the Search box (note: copying and pasting the FDMS Docket Number directly from this document may not yield search results). Click on the “Comment” icon, complete the required fields, and enter or attach your comments.

• Mail: Submit written comments to Gretchen Harrington, Assistant Regional Administrator, Sustainable Fisheries Division, Alaska Region NMFS, Attn: Records Office. Mail comments to P.O. Box 21668, Juneau, AK 99802-1668.

• Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the EFP application and the basis for a categorical exclusion under the National Environmental Policy Act are available from https://www.regulations.gov or from the NMFS Alaska Region website at https://www.fisheries.noaa.gov/region/alaska.

FOR FURTHER INFORMATION CONTACT: Amy Hadfield, 907-586-7228.

SUPPLEMENTARY INFORMATION: NMFS manages the groundfish fisheries in the exclusive economic zone of the Bering Sea and Aleutian Islands (BSAI) and GOA under the Fishery Management Plan (FMP) for Groundfish of the BSAI Management Area (BSAI FMP) and the FMP for Groundfish of the GOA (GOA FMP). The Council prepared the BSAI and GOA FMPs under the authority of the Magnuson-Stevens Fishery Conservation and Management Act, 16 U.S.C. 1801 et seq. Regulations governing the BSAI and GOA groundfish fisheries appear at parts 600 and 679. The FMPs and the EFP-implementing regulations at § 600.745(b) and § 679.6 allow the NMFS Regional Administrator to authorize, for limited experimental purposes, fishing that would otherwise be prohibited. Procedures for issuing EFPs are contained in the implementing regulations.

Background and Need for Exempted Fishing Permit

NMFS requires daily fishing logbooks to be completed by most catcher vessels operating under a Federal Fisheries Permit. NMFS logbooks serve as a record of the location and time of fishing gear deployment and retrieval and the harvest and discard of target and non-target species. Logbook data are used to manage fisheries and assist in monitoring compliance with fishery regulations. Most vessel operators currently use paper logbooks to record the required information. However, upon approval of the Regional Administrator, vessel operators may use NMFS-approved electronic versions of the logbook. These systems are called electronic logbooks (ELBs).

Beginning in 2015, NMFS developed, with Council input, the Electronic Technologies Implementation Plan for the Alaska Region to guide integration of monitoring technologies into North Pacific fisheries management and provide goals and benchmarks to evaluate attainment of goals (plan and updates are available at https://www.fisheries.noaa.gov/national/fisheries-observers/electronic-technologies-implementation-plans). The plan identified several North Pacific fisheries where electronic logbooks would be beneficial to management.

In 2023, RTDNA was awarded funding by the National Fish and Wildlife Federation to advance the development of electronic logbooks in Alaska's fishing industry. Throughout the year, RTDNA implemented the Deckhand ELB on 29 vessels as part of a pilot project. This initiative highlighted several regulatory challenges, particularly for smaller vessels. The feedback from vessel operators delivered to both RTDNA and NMFS staff revealed that existing regulations, initially designed without considering modern technologies like tablets, hinder the transition from paper-based recordkeeping to fully electronic logbooks. This pilot phase underscored the need for regulatory adaptations to accommodate electronic logbook systems.

Current regulations in the Alaska Region mandate daily printing and signatures on board vessels for users of NMFS-approved ELBs in Alaska federal fisheries. These regulations significantly limit the ability and potential for ELB technology to comprehensively benefit fishers and NMFS. NMFS believes the printing and signature requirements should be reconsidered and updated to allow innovation in modern ELB technologies. This requested EFP would exempt fishers from the regulations found in § 679.5(f)(3) and (4) that require fishing vessels to produce printed copies of ELB logsheets, ELB discard reports, and signatures on printed copies. If approved, this EFP would facilitate further research into necessary regulatory changes to integrate electronic logbooks effectively with modern technology.

Exempted Fishing Permit

On October 20, 2023, Mr. Lange Solberg of RTDNA submitted an application for an EFP to develop and test changes in regulations found in § 679.5(f)(3) and § 679.5(f)(4) that require vessels using ELB logbooks to produce printed copies of ELB logsheets, ELB discard reports, and signatures on printed copies. The objectives of this proposed EFP are as follows:

• To test 100 percent electronic submission of logbook and discard reports.

• To evaluate the effectiveness of electronic reporting in improving data accuracy and timeliness.

• To assess the feasibility of transferring data electronically to observers and International Pacific Halibut Commission port samplers.

• To demonstrate the potential for cost savings and efficiency gains through digital processes.

• To explore ways to enhance compliance with fishing regulations via electronic reporting.

• To gather data on the impact of electronic reporting on vessel operations.

Vessel operators participating in this project would utilize the Deckhand ELB platform, which is an iPad with RTDNA's software application installed, for data collection in halibut and groundfish fisheries in the North Pacific. Vessel operators would provide access to these devices to authorized personnel on request and test alternate methods to a physical signature. Ideas that are currently under consideration include a digital signature component for validation, using a personal identification number (PIN) for each operator.

Vessel operators would also assist in the testing methods for transferring logbook data to observers, IPHC port samplers and other authorized personnel either directly from the electronic device or via electronic communications. This project aims to improve overall efficiency, provide access to necessary ELB data and enable an end-to-end testing of a fully electronic logbook data collection and submission framework.

Exemptions

Two exemptions are necessary to conduct this project. First, an exemption would be necessary from the requirement at § 679.5(f)(3) for printed copies of ELB logsheet and discard reports on board participating vessels.

The second exemption would be from § 679.5(f)(4)'s requirement for physical signatures on printed ELB logsheets and discard reports on board participating vessels. Physical signatures would be replaced by electronic signatures using PINs.

Permit Conditions, Review, and Effects

The applicant would be required to submit to NMFS a report of the EFP results six months after the close of the 2025 IFQ fishing season. The report would include the method(s) chosen for digital signature and a comparison among methods if applicable; interactions with observers, port samplers and an analysis of both benefits and challenges of transferring required data to them electronically; and an analysis of cost savings, efficiency and impact aboard participating vessels. Under the current regulations, observers and port samplers both collect physical hard copies of the logbooks. Since there would no longer be physical pages under this EFP, best methods for the vessel operator to provide that information electronically must be developed. The activities that would be conducted under this EFP are not expected to have a significant impact on the human environment, as detailed in the categorical exclusion for this action (see ADDRESSES).

In accordance with §§ 679.6 and 600.745, NMFS has determined that the application warrants further consideration and has forwarded the application to the Council to initiate consultation. The Council is scheduled to consider the EFP application during its February 2024 meeting, which will be held in person in Seattle, WA with an option to participate virtually. The EFP application will also be provided to the Council's Scientific and Statistical Committee for review at the February Council meeting. The applicant has been invited to speak in support of the application.

Public Comments

Interested persons may comment on the application during the February 2024 Council meeting during public testimony or the Federal eRulemaking Portal (see ADDRESSES) until February 12, 2024 when the comment period ends. Information regarding the meeting is available at the Council's website at http://www.npfmc.org. Copies of the application and categorical exclusion are available for review from NMFS (see ADDRESSES). Comments may also be submitted directly to NMFS (see ADDRESSES) by the end of the comment period (see DATES).

Authority: 16 U.S.C. 1801 et seq.

Dated: January 17, 2024.
Everett Wayne Baxter,
Acting Director, Office of Sustainable Fisheries, National Marine Fisheries Service.

[FR Doc. 2024-01121 Filed 1-22-24; 8:45 am]

BILLING CODE 3510-22-P